DEPARTMENT OF THE INTERIOR

National Park Service

[NPS-WASO-NAGPRA-NPS0038623; PPWOCRADN0-PCU00RP14.R50000]

Notice of Inventory Completion: Science Museum of Minnesota, Saint Paul, MN

AGENCY: National Park Service, Interior.

ACTION: Notice.

SUMMARY: In accordance with the Native American Graves Protection and Repatriation Act (NAGPRA), the Science Museum of Minnesota has completed an inventory of human remains and associated funerary objects and has determined that there is a cultural affiliation between the human remains and associated funerary objects and Indian Tribes or Native Hawaiian organizations in this notice.

DATES: Repatriation of the human remains and associated funerary objects in this notice may occur on or after October 3, 2024.

ADDRESSES: Alison Rempel Brown, President and CEO, Science Museum of Minnesota, 120 W Kellogg Boulevard, St. Paul, MN 55102, telephone (651) 221-9415, email abrown@smm.org.

SUPPLEMENTARY INFORMATION: This notice is published as part of the National Park Service's administrative responsibilities under NAGPRA. The determinations in this notice are the sole responsibility of the Science Museum of Minnesota, and additional information on the determinations in this notice, including the results of consultation, can be found in its inventory or related records. The National Park Service is not responsible for the determinations in this notice.

Abstract of Information Available

Human remains representing, at least, 19 individuals have been identified. The 479 associated funerary objects are bone harpoon points, bone beads, shell gorgets, shell ornaments/pendants, stone tools, pottery sherds, antler tine, shells, lithic flakes, bark fragments, and soil and rocks.

The following have been determined to be culturally affiliated with the Prairie Island Indian Community based upon geographic location and oral tradition. One human cranium donated in 1949, found at Mendota, Minnesota (SMM Accession 2011). Two bone fragments and 16 teeth representing at least one individual from excavation at the Lee Mill Cave site (21DK0002) in Dakota County, Minnesota, by the Science Museum of Minnesota in 1953 (SMM Accession 2102). Six artifacts from excavation of Mound 1 and 2 at the Bremer Mounds site (21DK0005) in Dakota County, Minnesota, by the Science Museum of Minnesota in 1955 (SMM Accession 2158). Twenty-two cranial fragments and 50+ small bone fragments representing at least one individual, and 14 artifacts from excavation of Mound 1 at the Schilling site (21WA0001) in Washington County, Minnesota, by the Science Museum of Minnesota in 1958 (SMM Accession 2167). Seven bone fragments and two (2) teeth from excavation in 1959-1960 (SMM Accession 2354) and two teeth from excavation in 2015 (SMM Accession A2015:4) at the Sheffield site (21WA0001) in Washington County, Minnesota, by the Science Museum of Minnesota. Four-hundred and forty-eight artifacts from excavation of Mounds 1, 2, 3, 4, and 5 at the Fort Sweney site (21GD0086) in Goodhue County, Minnesota, by the Science Museum of Minnesota in 1960-1962 (SMM Accession 2416). Eleven artifacts from excavation of burials at the Pemton/River Hills site (21DK0041) in Dakota County, Minnesota, by the Science Museum of Minnesota in 1968. Thirteen human bone fragments, 2+ likely human bone fragments, and 110 teeth/tooth fragments representing at least four individuals from excavation at the Mero site (47PI0002) in Pierce County, Minnesota, by the Institute for Minnesota Archaeology in 1991-1992, and transferred to the Science Museum of Minnesota in 2001 (SMM Accession A2001:11). Twenty-five human bone fragments and eight bone fragments that are likely human representing at least one individual from excavation at the Energy Park site (21GD0158) in Goodhue County, Minnesota, by the Institute for Minnesota Archaeology in 1986-1990, and transferred to the Science Museum of Minnesota in 2001 (SMM Accession A2001:13). Four human cranial fragments and 11+ tooth fragments from representing at least one individual from excavation at the Silvernale site (21GD0003) in Goodhue County, Minnesota, by archaeologists affiliated with the Minnesota Archaeological Society, Carlton Summer Institute, and Hamline University in 1974, 1976, and 1977. The collection had been held by the Institute for Minnesota Archaeology until 2001 when it was transferred to the Science Museum of Minnesota (SMM Accession A2017:1). Five human bone fragments and six tooth fragments representing at least one individual from excavation at the Burnside School site (21GD0159) in Goodhue County, Minnesota, by the Institute for Minnesota Archaeology in 1995, and transferred to the Science Museum of Minnesota in 2001 (SMM Accession A2018:1). One human cranial fragment from the Science Museum of Minnesota's educational collection (not accessioned) from southeastern Minnesota. No additional information is available.

The following have no provenience information and appear to be archaeological. The Prairie Island Indian Community “recognizes that there is limited or no known provenience for these ancestral remains, and it is therefore highly unlikely that any clear descendant groups or relatives may claim them. The Prairie Island Indian Community is willing to accept these individuals into their family so that they can be reburied, rather than languishing without relatives in a museum.”—Letter from Noah White, Tribal Historic Preservation Officer, 22-June-2024. Two human crania donated in 1958 without provenience (SMM Accession 2283). One human long-bone fragment donated in 1964 (SMM Accession A64:6). Unknown provenience. No additional information is available. Two cranial fragments that refit (not accessioned). Unknown provenience. No additional information is available. Thirty-three human bones stored together in a tray representing at least two individuals (not accessioned). Unknown provenience. No additional information is available. One human cranium and mandible. Unknown provenience. No additional information is available.

Cultural Affiliation

Based on the information available and the results of consultation, cultural affiliation is reasonably identified by the geographical location or acquisition history of the human remains and associated funerary objects described in this notice.

Determinations

The Science Museum of Minnesota has determined that:

• The human remains described in this notice represent the physical remains of 19 individuals of Native American ancestry.

• The 479 objects described in this notice are reasonably believed to have been placed intentionally with or near individual human remains at the time of death or later as part of the death rite or ceremony.

• There is a connection between the human remains and associated funerary objects described in this notice and the Prairie Island Indian Community in the State of Minnesota.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after October 3, 2024. If competing requests for repatriation are received, the Science Museum of Minnesota must determine the most appropriate requestor prior to repatriation. Requests for joint repatriation of the human remains and associated funerary objects are considered a single request and not competing requests. The Science Museum of Minnesota is responsible for sending a copy of this notice to the Indian Tribes and Native Hawaiian organizations identified in this notice.

Authority: Native American Graves Protection and Repatriation Act, 25 U.S.C. 3003, and the implementing regulations, 43 CFR 10.10.

Dated: August 26, 2024.
Melanie O'Brien,
Manager, National NAGPRA Program.

[FR Doc. 2024-19684 Filed 8-30-24; 8:45 am]

BILLING CODE 4312-52-P